DEPARTMENT OF COMMERCE

International Trade Administration

[A-822-805, A-451-804, A-823-814, A-821-818]

Initiation of Antidumping Investigations: Urea Ammonium Nitrate Solutions from Belarus, Lithuania, the Russian Federation, and Ukraine

AGENCY: Import Administration, International Trade Administration, Department of Commerce.

EFFECTIVE DATE: May 20, 2002.

FOR FURTHER INFORMATION CONTACT: Zev Primor, Paige Rivas, John Conniff, or Crystal Crittenden, AD/CVD Enforcement Office IV, Import Administration, International Trade Administration, U.S. Department of Commerce, 14th Street and Constitution Avenue, NW., Washington, DC 20230; telephone: (202) 482-4114, (202) 482-0651, (202) 482-1009, or (202) 482-0989 respectively.

SUPPLEMENTARY INFORMATION:

INITIATION OF INVESTIGATIONS:

The Applicable Statute and Regulations

Unless otherwise indicated, all citations to the statute are references to the provisions effective January 1, 1995, the effective date of the amendments made to the Tariff Act of 1930 (the Act) by the Uruguay Round Agreements Act. In addition, unless otherwise indicated, all citations to the Department of Commerce's (the Department) regulations are to 19 CFR part 351 (2001).

The Petitions

On April 19, 2002, the Department received petitions filed in proper form by the Nitrogen Solutions Fair Trade Committee (the petitioner). Its members consist of CF Industries, Inc., Mississippi Chemical Corporation, and Terra Industries, Inc.. The Department received information supplementing the petitions on May 3, 2002.

In accordance with section 732(b) of the Act, the petitioner alleges that imports of urea ammonium nitrate solutions (UANS) from Belarus, Lithuania, the Russian Federation, and Ukraine are being, or are likely to be, sold in the United States at less than fair value (LTFV) within the meaning of section 731 of the Act, and that such imports are materially injuring an industry in the United States.

The Department finds that the petitioner filed these petitions on behalf of the domestic industry because it is an interested party as defined in section 771(9)(C) of the Act and has demonstrated sufficient industry support with respect to the antidumping investigations that it is requesting the Department to initiate. See Determination of Industry Support for the Petitions section below.

Scope of Investigations

For purposes of these investigations, the product covered is all mixtures of urea and ammonium nitrate in aqueous or ammoniacal solution, regardless of nitrogen content by weight, and regardless of the presence of additives, such as corrosion inhibitors. The merchandise subject to these investigations is classified in the Harmonized Tariff Schedule of the United States (HTSUS) at subheading 3102.80.00.00. Although the HTSUS subheading is provided for convenience and U.S. Customs Service (U.S. Customs) purposes, the written description of the merchandise under investigation is dispositive.

During our review of the petitions, we discussed the scope with the petitioner and commodity specialists at U.S. Customs to ensure that it accurately reflects the product for which the domestic industry is seeking relief. Moreover, as discussed in the preamble to the Department's regulations (62 FR 27296, 27323), we are setting aside a period for parties to raise issues regarding product coverage. The Department encourages all parties to submit such comments within 20 days of publication of this notice. Comments should be addressed to Import Administration's Central Records Unit (CRU) at Room 1870, U.S. Department of Commerce, 14th Street and Constitution Avenue, NW., Washington, DC 20230. The period of scope consultations is intended to provide the Department with ample opportunity to consider all comments and consult with parties prior to the issuance of our preliminary determinations.

Period of Investigations

Section 351.204(b) of the Department's regulations states that, in the case of a non market economy (NME) country, in an investigation, the Department normally will examine merchandise sold during the two most recently completed fiscal quarters as of the month preceding the month in which the petitions were filed. The regulations further state that the Department may examine merchandise sold during any additional or alternate period it concludes is appropriate.

Following the above noted guidelines from section 351.204(b) of the Department's regulations, the anticipated period of investigation (POI) for each of these investigations is October 1, 2001, through March 31, 2002.

Determination of Industry Support for the Petitions

Section 732(b)(1) of the Act requires that a petition be filed on behalf of the domestic industry. Section 732(c)(4)(A) of the Act provides that a petition meets this requirement if the domestic producers or workers who support the petition account for: (1) at least 25 percent of the total production of the domestic like product; and (2) more than 50 percent of the production of the domestic like product produced by that portion of the industry expressing support for, or opposition to, the petition.

Finally, section 732(c)(4)(D) of the Act provides that if the petition does not establish support of domestic producers or workers accounting for more than 50 percent of the total production of the domestic like product, the administering agency shall: (i) poll the industry or rely on other information in order to determine if there is support for the petition as required by subparagraph (A), or (ii) determine industry support using any statistically valid sampling method to poll the industry.

Section 771(4)(A) of the Act defines the “industry” as the producers of a domestic like product. Thus, to determine whether the petition has the requisite industry support, the Act directs the Department to look to producers and workers who account for production of the domestic like product. The International Trade Commission (ITC), which is responsible for determining whether “the domestic industry” has been injured, must also determine what constitutes a domestic like product in order to define the industry. While both the Department and the ITC must apply the same statutory definition regarding the domestic like product (section 771(10) of the Act), they do so for different purposes and pursuant to separate and distinct authority. In addition, the Department's determination is subject to limitations of time and information. Although this may result in different definitions of the domestic like product, such differences do not render the decision of either agency contrary to the law.¹

¹ See Algoma Steel Corp. Ltd., v. United States, 688 F. Supp. 639, 642-44 (CIT 1988); High Information Content Flat Panel Displays and Display Glass Therefore from Japan: Final Determination; Rescission of Investigation and Partial Dismissal of Petition, 56 FR 32376, 32380-81 (July 16, 1991).

Section 771(10) of the Act defines the domestic like product as “a product that is like, or in the absence of like, most similar in characteristics and uses with, the article subject to an investigation under this title.” Thus, the reference point from which the domestic like product analysis begins is “the article subject to an investigation,” i.e., the class or kind of merchandise to be investigated, which normally will be the scope as defined in the petition. Moreover, the petitioner does not offer a definition of domestic like product distinct from the scope of the investigations.

The domestic like product referred to in these petitions is the domestic like product defined in the Scope of Investigations section above. The Department has no basis on the record to find this definition of the domestic like product to be inaccurate. The Department, therefore, has adopted this domestic like product definition.

The Department has further determined that these petitions contain adequate evidence of industry support. Information contained in the petitions demonstrates that the domestic producers or workers who support the petitions account for over 50 percent of total production of the domestic like product. See Petitions for Imposition of Antidumping Duties: Urea Ammonium Nitrate Solutions from Ukraine, Lithuania, Belarus, and the Russian Federation, dated April 19, 2002, at Exhibit 9. Therefore, the domestic producers or workers who support the petitions account for at least 25 percent of the total production of the domestic like product, and the requirements of section 732(c)(4)(A)(i) are met. See Initiation Checklists (public version on file in the CRU of the Department, Room B-099). Furthermore, because the Department received no opposition to the petitions, the domestic producers or workers who support the petitions account for more than 50 percent of the production of the domestic like product produced by that portion of the industry expressing support for or opposition to the petition. See Initiation Checklists. Thus, the requirements of section 732(c)(4)(A)(ii) are met.

Accordingly, the Department determines that these petitions were filed on behalf of the domestic industry within the meaning of section 732(b)(1) of the Act. See Initiation Checklists at Industry Support.

Export Price and Normal Value

The following are descriptions of the allegations of sales at LTFV upon which our decisions to initiate these investigations are based. Based on the information submitted in the petitions, adjusted where appropriate, we are initiating these investigations, as discussed below and in the Initiation Checklists.

The Department has analyzed the information in the petitions and considers the country-wide import statistics for the anticipated POI and market information used to calculate the estimated margins for the subject countries to be sufficient for purposes of initiation. Should the need arise to use any of this information in our preliminary or final determinations for purposes of facts available under section 776 of the Act, we may re-examine the information and revise the margin calculations, if appropriate.

Non Market Economies

Regarding an investigation involving an NME, the Department presumes, based on the extent of central government control in an NME, that a single dumping margin, should there be one, is appropriate for all NME exporters in the given country. 66 FR 33525 (June 22, 2001) and Notice of Final Determination of Sales at Less Than Fair Value: Solid Agricultural Ammonium Nitrate from Ukraine, 66 FR 38632 (July 25, 2001).

Belarus

Export Price

The petitioner based export price (EP) on import weighted average unit value (AUV) data from official U.S. Census Bureau statistics for the period October 2001 through February 2002, for the subject HTSUS number. The petitioner calculated a net U.S. price by deducting foreign inland freight and brokerage and handling from the AUV data.

The petitioner based foreign inland freight on a price quote for the rail transport effective during calender year 2000, obtained from a South African rail company provider and adjusted for inflation using the South African Wholesale Price Index (WPI) as published in the International Financial Statistics of the International Monetary Fund. See Notice of Preliminary Determination of Sales at Not Less Than Fair Value: Pure Magnesium From the Russian Federation, 66 FR 21319, 21324 (April 30, 2001) (Preliminary LTFV Determination: Pure Magnesium from the Russian Federation). Foreign brokerage and handling charges were based on the “waterfront charges” for the port of Durban, as published in a report by the South African Department of Transportation.

Normal Value

The petitioner asserted that the Department has long treated Belarus as an NME country. Pursuant to section 771(18)(C)(i) of the Act, because Belarus's status as an NME remains in effect, the petitioner determined the dumping margin using a factors of production (FOP) analysis.

For normal value (NV), the petitioner based the FOP, as defined by section 773(c)(3) of the Act, on the quantities of inputs of one U.S. UANS producer. The petitioner asserted that information regarding consumption rates for the production of this product in Belarus is not reasonably available, and has therefore assumed, for purposes of the petition, that the producer in Belarus used the same inputs in the same quantities as the petitioner. Based on the information provided by the petitioner, we believe that the petitioner's FOP methodology represents information reasonably available to the petitioner and is appropriate for purposes of initiating this investigation.

Pursuant to section 773(c) of the Act, the petitioner asserted that South Africa is the most appropriate surrogate country for Belarus, claiming that South Africa is: (1) a significant producer of comparable merchandise, and (2) is at a level of development comparable to Belarus in terms of per capita gross national income (GNI), which is the current World Bank term for what was previously termed “Gross National Product” (GNP). The petitioner notes that the Department's regulations state that it will place primary emphasis on per capita GNP in determining whether a given market economy is at a level of economic development comparable to the NME country. See e.g. Cold-Rolled Carbon Steel Flat Products from the Russian Federation: Non-Market Economy Status and Surrogate Country Selection, Memorandum from Jeffery May to Jim Doyle, February 28, 2002 (Cold-Rolled Surrogate Country Selection Memo). The petitioner further notes that South Africa has been included on the Department's most recent list of potential surrogates for Belarus. See Antidumping Duty Investigation of Steel Concrete Reinforcing Bars (Rebar) from Belarus: Non-market Economy Status and Surrogate Country Selection, Memorandum from Jeff May to Tom Futtner (August 31, 2000). Furthermore, the petitioner has been able to obtain all of the necessary data to value factors of UANS production in South Africa. Based on the information provided by the petitioner, we believe that the petitioner's use of South Africa as a surrogate country is appropriate for purposes of initiating this investigation.

In accordance with section 773(c)(4) of the Act, the petitioner valued FOP, where possible, on reasonably available, public surrogate data from South Africa. Materials were valued based on South African import values, as published by Statistics of the South African Department of Minerals & Energy (DME Statistics), and Global Trade Information Services: World Trade Atlas (GTI Services), sourced from the South Africa Revenue Service.

Labor was valued using the Department's regression-based wage rate for Belarus, in accordance with 19 CFR 351.408(c)(3).

Natural gas was valued using DME Statistics for October through December 2001. Electricity was valued using DME Statistics for the calender year 2000. Petitioners assert that the same figures were recently relied upon by the Department in pure magnesium from the Russian Federation. See Notice of Final Determination of Sales at Not Less Than Fair Value: Pure Magnesium From the Russian Federation, 66 FR 49347 (September 27, 2001) (Pure Magnesium from the Russian Federation).

Catalysts and the corrosion inhibitor were valued using AUVs of imports into South Africa taken from GTI Services. For manufacturing overhead, depreciation, general expenses and profit, the petitioner relied upon publicly available financial data from a South African producer of nitrogen fertilizers, Omnia Holdings, covering the period January 2000 through March 2001. Based on the information provided by the petitioner, we believe that the surrogate values represent information reasonably available to the petitioners and are acceptable for purposes of initiating this investigation. See Initiation Checklist.

Lithuania

Export Price

The petitioner based EP on the import weighted AUV data from official U.S. Census Bureau statistics for the period October 2001 through February 2002 for the subject HTSUS number. The petitioner calculated a net U.S. price by deducting brokerage, handling and domestic inland freight from the AUV. The petitioner based foreign inland freight on a price quote for the rail transport effective during calendar year 2000, obtained from a South African rail company provider and adjusted for inflation using the South African Wholesale Price Index (WPI) as published in the International Financial Statistics of the International Monetary Fund. See Preliminary LTFV Determination: Pure Magnesium From the Russian Federation. Foreign brokerage and handling charges were based on the “waterfront charges” for the port of Durban, as published in a report by the South African Department of Transportation.

Normal Value

The petitioner asserted that Lithuania is an NME country and no determination to the contrary has yet been made by the Department. The petitioner claimed that, pursuant to 19 USC 1677(18)(C)(i), Lithuania presumptively remains an NME country until that status is revoked.

For NV, the petitioner based the FOP, as defined by section 773(c)(3) of the Act, on the quantities of inputs of one U.S. UANS producer. The petitioner asserted that information regarding the Lithuanian producer's consumption rates is not reasonably available, and has therefore assumed, for purposes of the petition, that the producer in Lithuania uses the same inputs in the same quantities as the petitioner uses. Based on the information provided by the petitioner, we believe that the petitioner's FOP methodology represents information reasonably available to the petitioner and is appropriate for purposes of initiating this investigation.

Pursuant to section 773(c) of the Act, the petitioner asserted that South Africa is the most appropriate surrogate country for Lithuania, claiming that South Africa is: (1) a significant producer of comparable merchandise; (2) at a level of economic development comparable to Lithuania in terms of per capita GNI; and (3) that 30 percent of South Africa's labor force is employed in the agricultural sector, which corresponds to Lithuania's rate of 20 percent. The petitioner notes that the Department's regulations state that it will place primary emphasis on per capita GNP in determining whether a given market economy is at a level of economic development comparable to the NME country. See Cold-Rolled Surrogate Country Selection Memo. Furthermore, the petitioner has been able to obtain all of the necessary data to value factors of UANS production in South Africa. Based on the information provided by the petitioner, we believe that the petitioner's use of South Africa as a surrogate country is appropriate for purposes of initiating this investigation.

In accordance with section 773(c)(4) of the Act, the petitioner valued FOP, where possible, on reasonably available, public surrogate data from South Africa. Materials were valued based on South African import values, as published by DME Statistics and GTI Services.

Labor was valued using the Department's regression-based wage rate for Lithuania, in accordance with 19 CFR 351.408(c)(3).

Natural gas was valued using DME Statistics for October to December 2001. Electricity was valued using DME Statistics for the calender year 2000. Petitioners assert that the same figures were recently relied upon by the Department in pure magnesium from the Russian Federation. See Pure Magnesium From the Russian Federation.

Catalysts, chemicals, and the corrosion inhibitor were valued using AUVs of imports into South Africa taken from GTI Services for July to December 2001. For manufacturing overhead, depreciation, general expenses and profit, the petitioner has relied upon publicly available financial data from a South African producer of nitrogen fertilizers, Omnia Holdings, covering the period January 2000 through March 2001. Based on the information provided by the petitioner, we believe that the surrogate values represent information reasonably available to the petitioner and are acceptable for purposes of initiating this investigation. See Initiation Checklist.

The Russian Federation

Export Price

The petitioner based EP on import weighted AUV data from official U.S. Census Bureau statistics for the period October 2001 through February 2002 for the subject HTSUS number. The petitioner calculated a net U.S. price by deducting brokerage, handling and domestic inland freight from the AUV. The petitioner based foreign inland freight on a price quote for the rail transport effective during calender year 2000, obtained from a South African rail company provider and adjusted for inflation using the South African WPI as published in the International Financial Statistics of the International Monetary Fund. See Preliminary LTFV Determination: Pure Magnesium From the Russian Federation. Foreign brokerage and handling charges were based on the “waterfront charges” for the port of Durban, as published in a report by the South African Department of Transportation.

Normal Value

The petitioner asserted that the Department has treated the Russian Federation as an NME country in the past and has issued no determinations to the contrary. Pursuant to19 CFR 351.202(b)(7)(i)(C) of the Department's regulations, because the Russian Federation's status as an NME remains in effect, the petitioner determined the dumping margin using a FOP analysis.

For NV, the petitioner based the FOP, as defined by section 773(c)(3) of the Act, on the quantities of inputs of one U.S. UANS producer. The petitioner asserted that information regarding the Russian producers' consumption rates is not reasonably available, and it has therefore assumed, for purposes of the petition, that producers in Russia use the same inputs in the same quantities as the petitioner used. Based on the information provided by the petitioner, we believe that the petitioner's FOP methodology represents information reasonably available to the petitioner and is appropriate for purposes of initiating this investigation.

Pursuant to section 773(c) of the Act, the petitioner asserted that South Africa is the most appropriate surrogate country for the Russian Federation, claiming that South Africa is: (1) a significant producer of comparable merchandise; and (2) at a level of economic development comparable to the Russian Federation in terms of per capita GNI. The petitioner further notes that in recent antidumping cases involving the Russian Federation, the Department identified a group of countries at a level of economic development comparable to the Russian Federation based primarily on per capita GNI. This group includes Colombia, Egypt, the Philippines, Thailand, and Tunisia. The petitioner claimed that none of these potential surrogates were suitable for the instant petition for the following reasons: 1) the petitioner stated that surrogate country producer information is not available for Colombia; 2) in the case of Egypt, the petitioner asserted that it is unable to locate reliable, countrywide natural gas pricing data; 3) for the Philippines and Thailand, the petitioner stated that there is no nitrogen fertilizer production in those two countries; and 4) in the case of Tunisia, the petitioner asserted that it was unable to locate any sources of nationwide natural gas or electricity prices, in addition to being unable to obtain financial data for the one nitrogen producer in Tunisia. The petitioner claims it has been able to obtain all of the necessary data to value factors of UANS production in South Africa.

Based on the information provided by the petitioner, we believe that the petitioner's use of South Africa as a surrogate country is appropriate for purposes of initiating this investigation.

In accordance with section 773(c)(4) of the Act, the petitioner valued FOP, where possible, on reasonably available, public surrogate data from South Africa. Materials were valued based on South African import values, as published by DME Statistics and GTI Services.

Labor was valued using the Department's regression-based wage rate for the Russian Federation, in accordance with 19 CFR 351.408(c)(3).

Natural gas was valued using DME Statistics for October through December 2001. Electricity was valued using DME Statistics for the calender year 2000. The petitioner asserted that the same figures were recently relied upon by the Department in pure magnesium from the Russian Federation. See Pure Magnesium From the Russian Federation. These figures were adjusted to account for known price differences between U.S. production factors and factors reported to the Department by a Russian Federation producer in the production of ammonium nitrate (AN), and publicly reported factors for AN provided in the AN antidumping investigations. See Initiation of Antidumping Investigation: Solid Fertilizer Grade Ammonium Nitrate from the Russian Federation, 64 FR 45226 (September 27, 2000) (Initiation of Ammonium Nitrate). The petitioner assumed that the proprietary factor data was ranged upward by the full 10 percent maximum adjustment percentage. Therefore, to be conservative, the petitioner reduced the publicly reported factors by 10 percent to account for the possibility for an upward adjustment.

Catalysts, chemicals, and the corrosion inhibitor were valued using AUVs of imports into South Africa taken from GTI Services for July through December 2001. For manufacturing overhead, depreciation, general expenses and profit, the petitioner relied upon publicly available financial data from a South African producer of nitrogen fertilizers, Omnia Holdings, covering the period January 2000 through March 2001. Based on the information provided by the petitioner, we believe that the surrogate values represent information reasonably available to the petitioner and are acceptable for purposes of initiating this investigation. See Initiation Checklist.

Ukraine

Export Price

The petitioner based EP on the AUV data from official U.S. Census Bureau statistics for the period October 2001 through February 2002 for the subject HTSUS number. The petitioner calculated a net U.S. price by deducting brokerage, handling and domestic inland freight from the AUV. The petitioner based foreign inland freight on rail freight information provided by the U.S. Embassy in Jakarta, Indonesia for February 2001 and adjusted for inflation using the Indonesian WPI as published in the International Financial Statistics of the International Monetary Fund. See Notice of Preliminary Determination of Sales at Less Than Fair Value and Postponement of Final Determination: Solid Agricultural Grade Ammonium Nitrate From Ukraine, 66 FR 13286 (March 5, 2001) (Ammonium Nitrate from Ukraine). Foreign brokerage and handling charges were based on Indonesian brokerage and handling cost for February 2001 used by the Department in the antidumping investigation of AN from Ukraine and were inflated to the POI using the Indonesian WPI as published in the International Financial Statistics of the International Monetary Fund. See Ammonium Nitrate from Ukraine, 66 FR at 13290-91.

Normal Value

The petitioner asserted that the Department has treated Ukraine as an NME country in the past and has issued no determinations to the contrary. Pursuant to19 CFR 351.202(b)(7)(i)(C), because Ukraine's status as an NME remains in effect, the petitioner determined the dumping margin using a FOP analysis.

For NV, the petitioner based the FOP, as defined by section 773(c)(3) of the Act, on the quantities of inputs of one U.S. UANS producer. The petitioner asserted that information regarding the Ukrainian producers' consumption rates is not reasonably available, and it has therefore assumed, for purposes of the petition, that producers in Ukraine use the same inputs in the same quantities as the petitioner uses. Based on the information provided by the petitioner, we believe that the petitioner's FOP methodology represents information reasonably available to the petitioner and is appropriate for purposes of initiating this investigation.

Pursuant to section 773(c) of the Act, the petitioner asserted that Indonesia is the most appropriate surrogate country for Ukraine, claiming that Indonesia is: (1) a significant producer of comparable merchandise; and (2) at a level of economic development comparable to Ukraine in terms of per capita GNI. The petitioner further notes that Indonesia, in addition to Pakistan, Sri Lanka, the Philippines, and Egypt, is included on the Department's most recent list of possible surrogate countries for Ukraine. See Ammonium Nitrate from Ukraine. Based on the information provided by the petitioner, we believe that the petitioner's use of Indonesia as a surrogate country is appropriate for purposes of initiating this investigation.

In accordance with section 773(c)(4) of the Act, petitioner valued FOP, where possible, on reasonably available, public surrogate data from Indonesia.

Labor was valued using the Department's regression-based wage rate for Ukraine, in accordance with 19 CFR 351.408(c)(3).

Natural gas and electricity were valued from the Organization for Economic Cooperation and Development's Energy Prices & Taxes (4th quarter 2001) and adjusted to the anticipated POI to take inflation into account. Adjustments were also made to account for known price differences between U.S. production factors and factors reported to the Department by Ukrainian producer, J.S.C. Stirol, for the production of AN, and publicly reported factors for AN provided in the AN antidumping investigations. See Ammonium Nitrate from Ukraine. The petitioner assumed that the proprietary factor data was ranged upward by the full 10 percent maximum adjustment percentage. Therefore, to be conservative, the petitioner reduced the publicly reported factors by 10 percent to account for the possibility for an upward adjustment.

For manufacturing overhead, depreciation, general expenses and profit, the petitioner has relied upon publicly available financial data from an Indonesian producer of ammonia and urea, PT Pupuk Kalimantan.

Catalysts, chemicals and the corrosion inhibitor were valued using import data from Indonesia taken from GTI Services for July to December 2001. The petitioner used Indonesian import statistics for HTSUS number 3815.1100 to value the catalysts containing nickel and, in accordance with 19 CFR 351.408(a), subtracted NME values from the total quantity and value of imports. The Indonesian import statistics also contained values listed as being imports from Indonesia. Because we do not know what these values represent, we adjusted the petitioner's surrogate value data by subtracting these values from the Indonesian import statistics. Furthermore, it is the Department's practice to disregard import values from South Korea, Thailand, and Indonesia. The Department has determined that each of these countries maintain broadly available, non-industry specific export subsidies which may benefit all exporters to all export markets. Therefore, we have also adjusted the petitioner's surrogate data by subtracting these imports from these countries from the statistics. See Final Determination of Sales at Less Than Fair Value: Certain Automotive Replacement Glass Windshields From the People's Republic of China, 67 FR 6482 (February 12, 2002). Based on the information provided by the petitioner and taking into account adjustments made by the Department, we believe that the surrogate values represent information reasonably available to the petitioner and are acceptable for purposes of initiating this investigation.

Fair Value Comparisons

Based on a comparison of EP to NV, the petitioner calculated estimated weighted-average dumping margins of 75.80, 103.90, and 331.40 percent for Belarus, Lithuania, and the Russian Federation, respectively. In the case of Ukraine, the Department adjusted the petitioner's calculations, which then produced an estimated weighted-average dumping margin of 144.70 percent. Summaries of the margin calculations are contained in the Initiation Checklists.

Based on the data provided by the petitioner, there is reason to believe that imports of UANS from Belarus, Lithuania, the Russian Federation, and Ukraine are being, or are likely to be, sold at LTFV.

Allegations and Evidence of Material Injury and Causation

The petitions allege that the U.S. industry producing the domestic like product is being materially injured, and is threatened with material injury, by reason of the imports of the subject merchandise sold at less than NV. The allegations of injury and causation are supported by relevant evidence including U.S. Customs import data, ITC data, information gathered during the AN investigations, lost sales data, and pricing information. See Ammonium Nitrate From Ukraine. See also Ammonium Nitrate from Russia. The Department assessed the allegations and supporting evidence regarding material injury and causation and determined that these allegations are supported by accurate and adequate evidence and meet the statutory requirements for initiation. See Initiation Checklists at 4 and 5.

Request for an Expedited Preliminary Determinations

The petitioner has requested that, in accordance with the Department's June 8, 2000, policy bulletin regarding expedited antidumping duty investigations, the Department issue expedited preliminary determinations in these investigations. See Department Policy Bulletin No. 00.1, “Expedited Antidumping Duty Allegations” (policy bulletin), which can be found on the Department's web page at http://ia.ita.doc.gov. The policy bulletin lays out specific criteria that the Department will consider in deciding whether to expedite an investigation, including evidence of an extraordinary surge in imports prior to the filing of the petition, evidence of significant import penetration, evidence of an unusually high dumping margin or recent declines in import prices, whether there are prior determinations of dumping against the same product (or class of product) from the subject country in the United States or in other countries, and whether the Department's resources permit it to expedite the preliminary determination.

The petitioner contended that there has been a surge of “unfairly traded imports” of UANS from Belarus, Lithuania, the Russian Federation, and Ukraine at “unprecedented levels” and that subject country producers have captured U.S. market share through “aggressive and persistent underselling.” The petitioner also alleged that the United States market has been and continues to be flooded with UANS traded at LTFV from the Russian Federation, Ukraine, Lithuania, and Belarus. Furthermore, the petitioner asserted that after the imposition of antidumping restrictions in the European Union in 2000, the United States, the largest unrestricted market for UANS, has become a target for unfairly traded imports of UANS. Moreover, the petitioner argued that the massive surge of imports from the Russian Federation, Ukraine, Lithuania, and Belarus did not recede in 2001, but instead comprised 84.1 percent of the total share of UANS imports. The petitioner claimed the rapid and voluminous increase of imports from the Russian Federation, Ukraine, Lithuania, and Belarus warrants an expedited preliminary determination.

The Department is considering the petitioner's arguments on this matter and will make a determination on whether to expedite the preliminary determination. Section 351.205(b)(1) of the Department's regulations states that the deadline for a preliminary determination in an antidumping investigation is normally not later than 140 days after the date on which the Secretary initiated the investigation.

We are inviting parties to comment on the petitioner's request for expedited preliminary determination. The Department encourages all parties to submit such comments no later than May 20, 2002. Comments should be addressed to the Import Administration's Central Records Unit at Room 1870, U.S. Department of Commerce, 14th Street and Constitution Avenue, NW., Washington, DC 20230.

Initiation of Antidumping Investigations

Based on our examination of the petitions, we have found that the petitions meet the requirements of section 732 of the Act. Therefore, we are initiating antidumping duty investigations to determine whether imports of UANS from Belarus, Lithuania, the Russian Federation, and Ukraine are being, or are likely to be, sold in the United States at LTFV. Should the need arise to use any of this information as facts available under Section 776 of the Act in our preliminary or final determinations, we may reexamine the information and revise the margin calculations, if appropriate. Unless this deadline is extended, we will make our preliminary determinations no later than 140 days after the date of these initiations.

Distribution of Copies of the Petition

In accordance with section 732(b)(3)(A) of the Act, copies of the public versions of the petitions have been provided to representatives of the government of Belarus, Lithuania, Ukraine, and the Russian Federation.

International Trade Commission Notification

We have notified the ITC of our initiation, as required by section 732(d) of the Act.

Preliminary Determination by the ITC

The ITC will determine by June 3, 2002, whether there is a reasonable indication that an industry in the United States is materially injured, or is threatened with material injury, by reason of imports of UANS from Belarus, Lithuania, Ukraine, and the Russian Federation. A negative ITC determination will result in the investigations being terminated; otherwise, these investigations will proceed according to statutory and regulatory time limits.

This notice is issued an published in accordance with section 777(i) of the Act.

DATED: May 9, 2002
Joseph A. Spetrini,
Acting Assistant Secretary for Import Administration.

[FR Doc. 02-12588 Filed 5-17-02; 8:45 am]

BILLING CODE 3510-DS-S